DEPARTMENT OF TRANSPORTATION

National Highway Traffic Safety Administration

[Docket No. NHTSA-2013-0133; Notice 1]

General Motors, LLC, Receipt of Petition for Decision of Inconsequential Noncompliance

AGENCY: National Highway Traffic Safety Administration (NHTSA), Department of Transportation (DOT).

ACTION: Receipt of petition.

SUMMARY: General Motors, LLC (GM) has determined that certain model year (MY) 2011, 2012 and 2013 Chevrolet Volt passenger cars sold with windshield sunshades as a “Limited Personalization Option,” do not fully comply with paragraph S4.3 of Federal Motor Vehicle Safety Standard (FMVSS) No. FMVSS 302, Flammability of Interior Materials. GM has filed an appropriate report dated August 27, 2013, pursuant to 49 CFR part 573, Defect and Noncompliance Responsibility and Reports.

DATES: The closing date for comments on the petition is February 20, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's Petition

Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved

Affected are approximately 3,426 MY 2011, 2012 and 2013 Chevrolet Volt passenger cars that were manufactured from 12/14/2010 to 06/26/2013 and sold to retail customers with windshield sunshades as a “Limited Personalization Option.”

III. Noncompliance

GM explains that the noncompliance is that the subject vehicles were delivered as new vehicles to retail customers with windshield sunshades that do not meet the maximum burn rate requirement of paragraph S4.3 of FMVSS No. 302.

IV. Rule Text

Refer to the entire text of Paragraph S4 of FMVSS No. 302 for contextual restrictions as well as the specific requirements of subparagraph S4.3.

V. Summary of GM's Analyses

GM stated its belief that the subject noncompliance is inconsequential to motor vehicle safety for the following reasons:

a. When tested as a finished part (i.e., with the inner and outer layers tested as though they form a composite), the sunshade's burn rate of 35mm/minute is significantly less than the FMVSS No. 302 maximum burn rate of 102 mm/minute. The outer layer is composed of self-extinguishing material that meets all of the requirements of FMVSS No. 302. While the layers of the assembly are not bonded at every point of contact, they are held together and encased with FMVSS No. 302 compliant self-extinguishing trim and stitching around the entire perimeter of the sunshade. Additional double rows of stitching create vertical accordion fold lines in the sunshade. The stitching segments the inner layer into smaller pieces that are separated by double layers of the FMVSS No. 302 compliant self-extinguishing outer layer material.

b. Only the inner layer, by itself, does not meet the FMVSS No. 302 burn rate, and at 110 mm/minute, it is only marginally above the 102 mm/minute requirement.

c. The sunshade has a storage bag which is made of FMVSS No. 302 compliant material. When the sunshade is stored in the provided bag while the vehicle is in use, the external surface that is presented to the occupant compartment is well within the FMVSS requirement, and two layers of FMVSS No. 302 compliant material would have to be penetrated to reach the marginally noncompliant inner layer.

d. Even if the sunshade was not placed in its storage bag when not in use, the external surface that is presented to the occupant compartment is still FMVSS compliant, and this layer would still need to be penetrated to reach the marginally noncompliant inner layer. In addition, folding it alone reduces the sunshade's surface area to approximately one eighth of the unfolded surface area, further reducing the exposure to any potential ignition source.

e. GM stated its belief that the purpose of FMVSS No. 302 is “to reduce the deaths and injuries to motor vehicle occupants caused by vehicle fires, especially those originating in the interior of the vehicle from sources such as matches or cigarettes.” FMVSS No. 302, paragraph S.2. The sunshade is designed to be used only when the vehicle is parked, and it is extremely unlikely that the inner layer would ever come in contact with an ignition source. As such, it is extremely unlikely that a vehicle occupant would ever be exposed to a risk of injury as a result of the noncompliance.

f. Because the sunshade is intended to help reduce sun load during hot weather conditions, it may be removed from the vehicle entirely during colder months, further reducing the exposure of the sunshade to the interior of the vehicle.

g. GM stated its belief that NHTSA has previously granted several inconsequential noncompliance petitions that GM believes can be applied to a decision on its petition. See GM's petition for a complete discussion of its reasoning.

h. There are no known field events involving ignition of sunshades. GM is not aware of any crashes, injuries or customer complaints involving this windshield sunshade.

GM has additionally informed NHTSA that it has corrected the noncompliance so that all future production vehicles delivered with windshield sunshades will comply with FMVSS No. 302

In summation, GM believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve motor vehicle distributors and dealers of the prohibitions on the sale, offer for sale, or introduction or delivery for introduction into interstate commerce of the noncompliant motor vehicles under their control after GM notified them that the subject noncompliance existed.

Authority: 49 U.S.C. 30118, 30120: Delegations of authority at 49 CFR parts 1.95 and 501.8.

Claude H. Harris,
Director, Office of Vehicle Safety Compliance.

[FR Doc. 2014-00923 Filed 1-17-14; 8:45 am]

BILLING CODE 4910-59-P